DEPARTMENT OF STATE

[Public Notice 6102]

In the Matter of the Amended Designations of Salafist Group for Call and Combat a.k.a. GSPC a.k.a. Le Groupe Salafiste Pour La Predication Et Le Combat a.k.a. Salafist Group for Preaching and Combat, as a Foreign Terrorist Organization Pursuant to Section 219 of the Immigration and Nationality Act and Pursuant to Section 1(b) of Executive Order 13224

Based upon a review of the administrative record assembled in this matter, and in consultation with the Attorney General and the Secretary of the Treasury, I have concluded that there is a sufficient factual basis to find that the Salafist Group for Call and Combat, has changed its name to al-Qa'ida in the Islamic Maghreb, a.k.a. AQIM, a.k.a. Tanzim al-Qa'ida fi Bilad al-Maghrib al-Islamiya, and that the relevant circumstances described in Section 219(a)(1) of the Immigration and Nationality Act, as amended (the “INA”) (8 U.S.C. 1189(a)(1)), and in Section 1(b) of Executive Order 13224, as amended (“E.O. 13224”), still exist with respect to that organization.

Therefore, I hereby further amend the designation of that organization as a foreign terrorist organization, pursuant to Section 219(b) of the INA (8 U.S.C. 1189(b)), and further amend the 2001 designation of that organization pursuant to Section 1(b) of E.O. 13224, to include the following new names:

al-Qa'ida in the Islamic Maghreb

a.k.a. AQIM

a.k.a Tanzim al-Qa'ida fi Bilad al-Maghrib al-Islamiya

Consistent with the determination in section 10 of Executive Order 13224 that “prior notice to persons determined to be subject to the Order who might have a constitutional presence in the United States would render ineffectual the blocking and other measures authorized in the Order because of the ability to transfer funds instantaneously”, I determine that no prior notice needs to be provided to any person subject to this determination who might have a constitutional presence in the United States, because to do so would render ineffectual the measures authorized in the Order.

Dated: February 4, 2008.
Condoleezza Rice,
Secretary of State, Department of State.

[FR Doc. E8-3154 Filed 2-19-08; 8:45 am]

BILLING CODE 4710-10-P